FEDERAL MARITIME COMMISSION

Notice of Agreement(s) Filed

The Commission hereby gives notice of the filing of the following agreement(s) under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 011733-007.

Title: Common Ocean Carrier Platform Agreement.

Parties: Alianca Navegacao e Logistica Ltda., A.P. Moller-Maersk Sealand, CMA CGM, S.A., CP Ships Limited, Hamburg Sud, Hapag-Lloyd Container Linie GmbH, Mediterranean Shipping Company, S.A., Nippon Yusen Kaisha, P&O Nedlloyd Limited, Safmarine Container Lines N.V., United Arab Shipping Company (S.A.G.).

Synopsis: The proposed amendment would permit shippers to use the INTTRA portal to assemble service contract proposals by arranging data and disseminating tenders to the party or parties of the shipper's choice.

Agreement No.: 011811.

Title: CMA/Contship Slot Charter Agreement.

Parties: CMA CGM, S.A., Contship Containerlines.

Synopsis: Under the proposed agreement, CMA would charter space to Contship in the trade generally between U.S. West Coast ports and ports in the Far East and the Indian Subcontinent.

Agreement No.: 201138.

Title: San Francisco/Star Shipping Marine Terminal Agreement.

Parties: San Francisco Port Commission, Star Shipping, AS.

Synopsis: The agreement provides for the non-exclusive right to use the port's marine terminal at Pier 80. The agreement runs through July 17, 2007.

By Order of the Federal Maritime Commission.
Dated: July 26, 2002.
Theodore A. Zook,
Assistant Secretary.

[FR Doc. 02-19293 Filed 7-30-02; 8:45 am]

BILLING CODE 6730-01-P